DEPARTMENT OF LABOR

Employee Benefits Security Administration

Proposed Extension of Information Collection Request; Submitted for Public Comment; Multiemployer Plan Annual Funding Notice

ACTION: Notice.

SUMMARY: In accordance with the Paperwork Reduction Act of 1995 (PRA 95) (44 U.S.C. 3506(c)(2)(A)), the Department of Labor (the Department) conducts a preclearance consultation program so that the general public and other federal agencies can comment on proposed and continuing collections of information. This program helps to ensure that the data the Department gathers arrive in the desired format, that the reporting burden on the public (time and financial resources) is minimized, that the public understands the collection instruments, and that the Department can accurately assess the impact of collection requirements on respondents.

By this notice, the Department is soliciting comments on the information collection provisions of regulations pertaining to section 101(f) of the Employee Retirement Income Security Act of 1974, as amended (ERISA). The statute and the regulatory provisions codified at 29 CFR 2520.101-4 require the administrator of a defined benefit plan which is a multiemployer plan to furnish an annual plan funding notice to each plan participant and beneficiary, each labor organization representing such participants or beneficiaries, each employer that has an obligation to contribute under the plan, and the Pension Benefit Guaranty Corporation. A copy of the information collection request (ICR) can be obtained by contacting the office shown in the addresses section of this notice. ICRs submitted to OMB also are available at http://www.RegInfo.gov.

DATES: Written comments must be submitted to the office shown in the addresses section on or before January 20, 2009.

ADDRESSES: Interested parties are invited to submit written comments regarding the information collection request and burden estimates to: G. Christopher Cosby, Office of Policy and Research, U.S. Department of Labor, Employee Benefits Security Administration, 200 Constitution Avenue, NW., Room N-5718, Washington, DC 20210. Telephone: (202) 693-8410; Fax: (202) 219-4745. These are not toll-free numbers. Comments may also be submitted electronically to the following Internet e-mail address: ebsa.opr@dol.gov.

SUPPLEMENTARY INFORMATION:

I. Background

Pursuant to section 101(a)(1) of ERISA, the administrator of a defined benefit plan which is a multiemployer plan must furnish an annual plan funding notice to each plan participant and beneficiary, each labor organization representing such participants or beneficiaries, each employer that has an obligation to contribute under the plan, and the Pension Benefit Guaranty Corporation. The Department issued a final implementing regulation under this provision on January 11, 2006 (71 FR 1904), which is codified at 29 CFR 2520.101-4. The ICR relating to the regulation was approved on March 17, 2005 under OMB Control Number 1210-0126. The ICR was extended on extended on August 20, 2008 and is scheduled to expire on March 31, 2009.

II. Desired Focus of Comments

The Department is particularly interested in comments that:

• Evaluate whether the proposed collection of information is necessary for the proper performance of the functions of the agency, including whether the information will have practical utility;

• Enhance the quality, utility, and clarity of the information to be collected;

• Evaluate the accuracy of the agency's estimate of the burden of the proposed collection of information, including the validity of the methodology and assumptions used;

• Minimize the burden of the collection of information on those who are to respond, including through the use of appropriate automated, electronic, mechanical, or other technological collection techniques or other forms of information technology, e.g., permitting electronic submission of responses.

III. Current Actions

The Employee Benefits Security Administration is requesting an extension of the currently approved ICR for the Multiemployer Plan Annual Funding Notice under ERISA section 101(f) and 29 CFR 2520.101-4. The Department is not proposing or implementing changes to the regulation or to the existing ICR at this time but is working toward amending the regulation to reflect amendments made by the Pension Protection Act of 2006. A summary of the ICR and the current burden estimates follows:

Type of Review: Extension of a currently approved collection.

Agency: Employee Benefits Security Administration, Department of Labor.

Title: Multiemployer Plan Annual Funding Notice.

OMB Number: 1210-0126.

Frequency: On occasion.

Affected Public: Individuals or households; business or other for-profit institutions; not-for-profit institutions.

Total Respondents: 1,595.

Total Responses: 10,048,000.

Estimated Total Burden Hours: 4,345.

Estimated Annual Burden Cost: $1,083,000.

Comments submitted in response to this notice will be summarized and/or included in the request for OMB approval of the ICR. They will also become a matter of public record.

Dated: November 12, 2008.
Joseph S. Piacentini,
Director, Office of Policy and Research, Employee Benefits Security Administration.

[FR Doc. E8-27639 Filed 11-20-08; 8:45 am]

BILLING CODE 4510-29-P